DEPARTMENT OF TRANSPORTATION

Federal Motor Carrier Safety Administration

[Docket No. FMCSA-2008-0078]

Commercial Driver's License (CDL) Standards; Rotel North American Tours, LLC; Amendment of Exemption

AGENCY: Federal Motor Carrier Safety Administration (FMCSA), DOT.

ACTION: Notice of final disposition.

SUMMARY: FMCSA announces its decision to grant Rotel North American Tours, LLC (Rotel), amendment of its existing exemption that permits 22 named drivers, employed by Rotel and possessing German CDLs, to operate commercial motor vehicles (CMVs) in the U.S. without a CDL issued by one of the States. The Rotel roster of its 22 exempt drivers is amended to permit three new Rotel drivers to be substituted for three drivers no longer employed by Rotel. The new Rotel drivers are subject to all the terms and conditions of the current exemption, including its expiration date of July 30, 2010.

DATES: This exemption is effective upon publication and expires on July 30, 2010.

FOR FURTHER INFORMATION CONTACT: Mr. Robert F. Schultz, Jr., FMCSA Driver and Carrier Operations Division, Office of Bus and Truck Standards and Operations: Telephone: 202-366-4325. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide FMCSA authority to grant exemptions from its motor carrier safety regulations, including the HOS rules. The procedure for requesting an exemption is prescribed in 49 CFR part 381. FMCSA must publish a notice of each exemption request in the Federal Register (49 CFR 381.315(a)). The Agency must provide the public an opportunity to inspect the information relevant to the application, including any safety analyses that have been conducted, and to comment on the request.

The Agency must review the safety analyses and public comments. Then it may grant the exemption for up to 2 years if it finds “such exemption would likely achieve a level of safety that is equivalent to, or greater than, the level that would be achieved absent such exemption” (49 CFR 381.305). The decision of the Agency must be published in the Federal Register (49 CFR 381.315(b)) with the reason for denying or, in the alternative, the specific person or class of persons receiving the exemption, and the regulatory provision or provisions from which the exemption is granted. The notice must also specify the effective period of the exemption and its terms and conditions.

Rotel provides seasonal motorcoach tours for non-English speaking tourists. The service is unique because the drivers of these buses serve as the tour guides, providing oral commentary to the passengers in their native language, usually German. Rotel states that none of the States of the U.S. will issue CDLs to these drivers because they are not State residents. Until recent years, Rotel drivers were able to obtain a nonresident CDL from certain States. Rotel asserts that without the exemption from the requirement that its drivers have a CDL issued by a State, it would have to terminate these tour operations. Complete details of Rotel's operations, including the names of the drivers, can be found in its original application, dated August 27, 2007, which is contained in the docket of this notice.

On July 30, 2008, FMCSA granted, after notice and comment, Rotel's request to allow 22 drivers, each holding a German CDL, to operate Rotel motor coaches in the U.S. without a CDL issued by one of the States as required by 49 CFR 383.23 (73 FR 44313). FMCSA found that these drivers, operating specialty tour buses in the U.S., would “likely achieve a level of safety that is equivalent to, or greater than, the level that would be achieved absent such exemption,” in accordance with 49 CFR 381.305. The two-year exemption expires on July 30, 2010.

Comments

On May 5, 2009, FMCSA published notice of this application to withdraw 3 Rotel drivers previously approved for this exemption but no longer employed by Rotel, Jens Radloff, Christian Hafner, and Ludwig Gerlsberger, and to substitute 3 new drivers, Klaus Endres, Sebastian Nicki, and Karl-Heinz Schmitz, in their place on the roster of exempt Rotel drivers. The Agency asked for public comment (74 FR 20776). No comments were submitted to the docket.

FMCSA Decision

The FMCSA has evaluated Rotel's application for amendment. The Agency grants Rotel's request that three former Rotel drivers, originally approved for this exemption, Jens Radloff, Christian Hafner, and Ludwig Gerlsberger be dropped from the roster of exempt drivers. The Agency believes that the three new drivers, Klaus Endres, Sebastian Nicki, and Karl-Heinz Schmitz, are qualified to replace the drivers dropped from the Rotel roster. Like the other 19 Rotel drivers already operating under the exemption, the three new drivers are non-residents of the U.S. and holders of German CDLs. The FMCSA finds that they possess sufficient knowledge, skills, and experience to ensure a level of safety that is equivalent to, or greater than, the level of safety that would be obtained by complying with the requirement for a U.S. CDL. Therefore, FMCSA hereby grants exemption for the balance of the two-year period of the exemption which ends on July 30, 2010. The three new Rotel drivers are subject to the terms and conditions of the original Rotel exemption.

Interested parties possessing information that would demonstrate that any or all of these 22 drivers are not achieving the requisite statutory level of safety should immediately notify the FMCSA. The Agency will evaluate any such information, and, if safety is being compromised or if the continuation of the exemption is not consistent with 49 U.S.C. 31315(b)(4) and 31136(e), will take immediate steps to revoke the exemption of the driver(s) in question, as well as Rotel's exemption if warranted.

Issued on: July 2, 2009.
Larry W. Minor,
Associate Administrator for Policy and Program Development.

[FR Doc. E9-16586 Filed 7-13-09; 8:45 am]

BILLING CODE 4910-EX-P